DEPARTMENT OF VETERANS AFFAIRS

[OMB Control No. 2900-2016]

Agency Information Collection (Application for Accrued Amounts Due a Deceased Beneficiary, VA Form 21P-601) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before June 10, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0216” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0216.”

SUPPLEMENTARY INFORMATION: Title: Application for Accrued Amounts Due a Deceased Beneficiary, VA Form 21P-601

OMB Control Number: 2900-0216.

Type of Review: Revision of a currently approved collection.

Abstract: VA Form 21P-601 is used to gather the information necessary to determine a claimant's entitlement to accrued benefits. Accrued benefits are amounts of VA benefits due, but unpaid, to a beneficiary at the time of his or her death. Benefits are paid to eligible survivors based on the priority described in 38 U.S.C. 5121(a). When there are no eligible survivors entitled to accrued benefits based on their relationship to the deceased beneficiary, the person or persons who bore the expenses of the beneficiary's last illness and burial may claim reimbursement for these expenses from accrued amounts.

An agency may not conduct or sponsor, and a person is not required to respond to a collection of information unless it displays a currently valid OMB control number.

The Federal Register Notice with a 60-day comment period soliciting comments on this collection of information was published on March 2, 2016, at 81 FR 10965.

Affected Public: Individuals or Households.

Estimated Annual Burden: 7,920 hours.

Estimated Average Burden per Respondent: 0.50 hours (30 minutes).

Frequency of Response: One-time.

Estimated Number of Respondents: 15,840 respondents.

By direction of the Secretary.
Kathleen M. Manwell,
Program Analyst, VA Privacy, Office of Privacy and Records Management, Department of Veterans Affairs.

[FR Doc. 2016-11054 Filed 5-10-16; 8:45 am]

BILLING CODE 8320-01-P